DEPARTMENT OF ENERGY

Federal Energy Regulatory Commission

[Project No. P-4472-028; Project No. P-15000-000]

Union Falls Hydropower L.P.; Erie Boulevard Hydropower L.P.; Notice of Application for Amendment and Transfer of License and Soliciting Comments, Motions To Intervene, and Protests

Take notice that the following hydroelectric application has been filed with the Commission and is available for public inspection.

a. Type of Application: Amendment and Transfer of License. Licensees for the Saranac Project No. 4472, Union Falls Hydropower L.P. (Union Falls) and Erie Boulevard Hydropower L.P. (Erie Boulevard), request that the Commission amend the existing Saranac Project, which consists of two developments, the Franklin Falls Development and the Union Falls Development. The amendment would divide the two developments into separately-licensed projects and simultaneously approve a license transfer so that there are no longer co-licensees but rather Union Falls would become the sole licensee for the Union Falls Project, and Erie Boulevard would become the sole licensee for the Franklin Falls Project. If the amendment application is approved, the license for the Union Falls Development, would continue to be referred to as the Saranac Project No. 4472 and the license for the Franklin Falls Development would become a new project called the Franklin Falls Project No. 15000.

b. Project Nos.: 4472-028 and 15000-000.

c. Date filed: June 17, 2019.

d. Applicants: Union Falls Hydropower L.P. and Erie Boulevard Hydropower L.P.

e. Name of Project: Saranac Project No. 4472.

f. Location: The project consists of two developments, the Franklin Falls Development and the Union Falls Development. The 2.265- megawatt (MW) upstream Franklin Falls Development is located about 45 river miles (RM) from the confluence of the Saranac River with Lake Champlain. The 2.6-MW Union Falls Development is located about seven RM downstream of the Franklin Falls Development at RM 38. Both developments are located on the Saranac River in the Towns of Franklin, Blackbrook, and St. Armand, in Franklin, Clinton, and Essex Counties, New York.

g. Filed Pursuant to: Federal Power Act 16 U.S.C. 791(a)-825(r).

h. Applicants Contact:

For the Franklin Falls Development: Mr. Thomas Uncher, Erie Boulevard Hydropower L.P., Vice President of Operations, Brookfield Renewable, 399 Big Bay Road, Queensbury, NY 12804, (518) 743-2018.

For the Union Falls Development: Mr. Lewis Loon, Union Falls Hydropower L.P., General Manager, Operations and Maintenance-USA/QC 423 Brunswick Avenue, Gardner, ME 04345, (207) 203-3027.

i. FERC Contact: Kim Nguyen, (202) 502-6105 or kim.nguyen@ferc.gov.

j. Deadline for filing comments, motions to intervene, and protests: August 2, 2019 (30 days).

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-4472-028 and P-15000-000.

k. Locations of the Application: A copy of the application is available for inspection and reproduction at the Commission's Public Reference Room, located at 888 First Street NE, Room 2A, Washington, DC 20426, or by calling (202) 502-8371. This filing may also be viewed on the Commission's website at http://www.ferc.gov/docs-filing/efiling.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the addresses in item (h) above.

l. Individuals desiring to be included on the Commission's mailing list should so indicate by writing to the Secretary of the Commission.

Register online at http://www.ferc.gov/docs-filing/esubscription.asp to be notified via email of new filings and issuances related to this or other pending projects. For assistance, contact FERCOnlineSupport@ferc.gov, (866) 208-3676 (toll free), or (202) 502-8659 (TTY).

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. Any filing made by an intervenor must be accompanied by prof of service on all persons listed in the service list prepared by the Commission in this proceeding, in accordance with 18 CFR 385.2010.

Dated: July 3, 2019.
Kimberly D. Bose,
Secretary.

[FR Doc. 2019-14677 Filed 7-9-19; 8:45 am]

BILLING CODE 6717-01-P